DEPARTMENT OF HOUSING AND URBAN DEVELOPMENT

[Docket No. FR-7092-N 15; OMB Control No.: 2502-0358]

30-Day Notice of Proposed Information Collection: Single Family Mortgage Insurance on Hawaiian Home Lands

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: July 7, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Room 8210, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A. The Federal Register notice that solicited public comment on the information collection for a period of 60 days was published on August 6, 2024 at 89 FR 63958.

A. Overview of Information Collection

Title of Information Collection: Single Family Mortgage Insurance on Hawaiian Home Lands.

OMB Approval Number: 2502-0358.

Type of Request: Reinstatement, with change, of previously approved collection.

Form Number: None.

Description of the need for the information and proposed use: FHA insures mortgages on single-family dwellings under provisions of the National Housing Act (12 U.S.C. 1709). The Housing and Urban Rural Recovery Act (HURRA), Public Law 98-181, amended the National Housing Act to add Section 247 (12 U.S.C. 1715z-12) to permit FHA to insure mortgages for properties located on Hawaiian Home Lands.

Section 247 requires that the Department of Hawaiian Homelands (DHHL) of the State of Hawaii (a) be a co-mortgagor; (b) guarantees, or reimburses the Secretary for any mortgage insurance claim paid in connection with a property located on Hawaiian Home Lands; or (c) offers other security acceptable to the Secretary. There are no changes to the program for this submission.

Under the State of Hawaii, the DHHL is responsible for management of Hawaiian Home Lands for the benefit of native Hawaiians. The DHHL determines that the mortgagor meets its eligibility requirement as a native Hawaiian.

Information collection | Number of respondents | Frequency of response | Responses per annum | Burden hour per response | Annual burden hours | Hourly cost per response | Annual cost
Certification that borrower is a native Hawaiian | 310 | 1 | 310 | .08 | 24.8 | $47.14 | $1,169.07
Copy of lease on land in Hawaiian Home Lands area | 310 | 1 | 310 | .08 | 24.8 | 47.14 | 1,169.07
Notice of delinquency | 13 | 1 | 13 | .42 | 5.46 | 47.14 | 257.38
Notice of default | 16 | 1 | 16 | .50 | 8 | 47.14 | 377.12
Totals | 339 |  | 339 | 1.08 | 63.06 |  | 2,972.65

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department Clearance Officer, Office of Policy Development and Research, Chief Data Officer.

[FR Doc. 2025-10301 Filed 6-5-25; 8:45 am]

BILLING CODE 4210-67-P